SOCIAL SECURITY ADMINISTRATION

[Docket No. SSA-2018-0071]

Privacy Act of 1974; System of Records; Extension of Comment Period

AGENCY: Deputy Commissioner of Operations, Social Security Administration (SSA).

ACTION: Notice of a new system of records.

SUMMARY: We are extending the comment period for a previously published Notice of a new system of records, due to the inability of the public to comment from the day the notice published on March 13, 2019, until March 25, 2019. Accordingly, we are extending the comment period by 12 days for the new system of records entitled, Travel and Border Crossing Records (60-0389).

DATES: The comment period for the notice published March 13, 2019, at 84 FR 9195, is extended. Comments should be received on or before April 24, 2019.

ADDRESSES: The public, Office of Management and Budget (OMB), and Congress may comment on this publication by writing to the Executive Director, Office of Privacy and Disclosure, Office of the General Counsel, SSA, Room G-401, West High Rise, 6401 Security Boulevard, Baltimore, Maryland 21235-6401, or through the Federal e-Rulemaking Portal at http://www.regulations.gov, please reference docket number SSA-2018-0071. All comments we receive will be available for public inspection at the above address and we will post them to http://www.regulations.gov.

FOR FURTHER INFORMATION CONTACT: Navdeep Sarai, Government Information Specialist, Privacy Implementation Division, Office of Privacy and Disclosure, Office of the General Counsel, SSA, Room G-401, West High Rise, 6401 Security Boulevard, Baltimore, Maryland 21235-6401, telephone: (410) 965-2997, email: Navdeep.Sarai@ssa.gov.

SUPPLEMENTARY INFORMATION: This notice extends the public comment period 12 additional days for the new system of record notice, published on March 13, 2019, the Travel and Border Crossing system to collect information about applicants, beneficiaries, and recipients under Titles II, XVI, and XVIII who have had absences from the United States (U.S.). (84 FR 9195). The extended comment period closes April 24, 2019.

Mary Zimmerman,
Acting Executive Director, Office of Privacy and Disclosure, Office of the General Counsel.

[FR Doc. 2019-06907 Filed 4-9-19; 8:45 am]

BILLING CODE P